DEPARTMENT OF AGRICULTURE

Forest Service

White River National Forest; Eagle County, CO El Jebel Administrative Sites, Upper and Lower Parcels, Conveyance Project

AGENCY: Forest Service, USDA.

ACTION: Notice of intent to prepare an environmental impact statement.

SUMMARY: The Forest Service is proposing to convey two adjacent parcels of land, and the associated water rights and mineral estate in El Jebel, Colorado pursuant to the Forest Service Facility Realignment and Enhancement Act of 2005 Public Law 109-54; 16 U.S.C. 580d note, as amended by Public Law 112-74, Title IV, Sec. 421. The property is proposed to be sold as two parcels. The Lower Parcel is approximately 40 acres and is predominantly riparian in nature and the Upper Parcel is approximately 30 acres and consists of three residences, one mobile home pad, horse pastures, and outdoor equipment storage. A conservation easement or deed restriction intended to protect the wetlands, floodplains, aquatic, botanical, wildlife resources, and future public access may be placed on the Lower Parcel at the time of sale. The property may be sold directly to an identified purchaser or may be sold under competitive bidding procedures. The method of sale will be determined at a later date. Conveying the parcel will help the Forest Service to streamline its administrative sites and create a more efficient pattern of land ownership in Eagle County. The proposal includes a project-specific forest plan amendment.

DATES: Comments concerning the scope of the analysis must be received by January 23, 2017. The draft environmental impact statement (EIS) is expected to be available for public review in summer 2017 and the final EIS is expected in winter 2018.

ADDRESSES: Send written comments to Scott Fitzwilliams, Forest Supervisor c/o Carole Huey, White River National Forest, 900 Grand Avenue, Glenwood Springs, CO 81601. Comments may also be submitted via https://cara.ecosystem-management.org/Public//CommentInput?Project=50663, email to clhuey@fs.fed.us, or via facsimile to (970) 945-3266.

FOR FURTHER INFORMATION CONTACT: Additional information related to the project can be obtained from the project Web page: http://www.fs.fed.us/nepa/fs-usda-pop.php/?project=50663 or Carole Huey, Lands and Conveyance Program Manager, White River National Forest, 900 Grand Avenue, Glenwood Springs, CO 81601. Ms. Huey can be reached by phone at (970) 945-3219 or by email at clhuey@fs.fed.us.

Individuals who use telecommunication devices for the deaf (TDD) may call the Federal Information Relay Service (FIRS) at 1-800-877-8339 between 8 a.m. and 8 p.m., Eastern Time, Monday through Friday.

Responsible Official: The Responsible Official is James S. Bedwell, Director of Recreation, Lands, and Minerals for the Rocky Mountain Region.

Nature of Decision To Be Made: Based on the analysis that will be documented in the forthcoming EIS, the Responsible Official will decide whether or not to implement, in whole or in part, the Proposed Action or another alternative that may be developed by the Forest Service as a result of scoping.

Scoping Process: This notice of intent initiates the scoping process, which guides the development of the EIS. The Forest Service is soliciting comments from Federal, State and local agencies and other individuals or organizations that may be interested in or affected by implementation of the proposed project. Public questions and comments regarding this proposal are an integral part of this environmental analysis process. Input provided by interested and/or affected individuals, organizations and governmental agencies will be used to identify alternative actions and resource issues that will be analyzed in the EIS.

Comments should be provided prior to the close of the comment period and should clearly articulate the reviewer's concerns and contentions. A public open house meeting will discuss the proposed action on December 8, 2016 from 5:30-7:00 p.m., (Mountain Standard Time) at the Eagle County Community Center located at 0020 Eagle County Drive, El Jebel, CO 81623. The meeting will be held in the Mt. Sopris Room.

Comments received in response to this solicitation, including names and addresses of those who comment, will be part of the public record for this proposed action. Comments submitted anonymously will be accepted and considered, however anonymous commenters would not have standing to file an objection. Those who submit comments will have eligibility to file an objection following the procedure laid out in 36 CFR 218.8. There will be an additional opportunity to comment when the Notice of Availability of the Draft EIS is published in the Federal Register.

For objection eligibility, each individual or representative from each entity submitting written comments must either sign the comment or verify identity upon request. Individuals and organizations wishing to be eligible to object must meet the information requirements in 36 CFR 218.5.

Dated: December 1, 2016.
James S. Bedwell,
Director of Recreation, Lands and Minerals, Rocky Mountain Region (R-2), USDA Forest Service.

[FR Doc. 2016-29305 Filed 12-6-16; 8:45 am]

BILLING CODE 3410-15-P